DEPARTMENT OF DEFENSE

Department of the Air Force

HQ USAF Scientific Advisory Board

AGENCY: Department of the Air Force, DoD.

ACTION: Notice of meeting.

SUMMARY: Pursuant to Public Law 92-463, notice is hereby given of the forthcoming meeting of the PBA Study Panel Chairs. The study results also will be briefed to the Chief of Staff of the Air Force (CSAF) during this period. Much of the discussion and work will be carried on at the Top Secret and SCI levels, and the studies will also be discussing substantial amounts of contractor-proprietary information. The meeting will be closed to the public in accordance with Section 552b of Title 5, USC, specifically subparagraphs (c)(1) and (4) thereof.

DATES: 17-28 June 2002.

ADDRESSES: The Arnold and Mabel Beckman Center, Irvine, CA.

FOR FURTHER INFORMATION CONTACT: The Air Force Scientific Advisory Board Secretariat at (703) 697-4811.

Pamela D. Fitzgerald,
Air Force Federal Register Liaison Officer.

[FR Doc. 02-14726 Filed 6-11-02; 8:45 am]

BILLING CODE 5001-05-P